DEPARTMENT OF ENERGY

Federal Energy Regulatory Commission

Sunshine Act Meeting Notice

January 10, 2008.

The following notice of meeting is published pursuant to section 3(a) of the government in the Sunshine Act (Pub. L. No. 94-409), 5 U.S.C. 552b:

Agency Holding Meeting: Federal Energy Regulatory Commission.

Date and Time: January 17, 2008, 10 a.m.

Place: Room 2C, 888 First Street, NE., Washington, DC 20426.

Status: Open.

Matters To Be Considered: Agenda.

*Note.—Items listed on the agenda may be deleted without further notice.

CONTACT PERSON FOR MORE INFORMATION: Kimberly D. Bose, Secretary, Telehone (202) 502-8400. For a recorded message listing items struck from or added to the meeting, call (202) 502-8627.

This is a list of matters to be considered by the Commission. It does not include a listing of all documents relevant to the items on the agenda. All public documents, however, may be viewed on line at the Commission's Web site at http://www.ferc.gov using the eLibrary link, or may be examined in the Commission's Public Reference Room.

928th—Meeting
Item No. | Docket No. | Company
Administrative
A-1 | AD02-1-000 | Agency Administrative Matters.
A-2 | AD02-7-000 | Customer Matters, Reliability, Security and Market Operations.
A-3 | AD06-3-000 | Energy Market Update.
Electric
E-1 | OMITTED
E-2 | RM06-22-000 | Mandatory Reliability Standards for Critical Infrastructure Protection.
E-3 | ER08-194-000 | Duquesne Light Company.
E-4 | ER01-2569-005 | Boralex Livermore Falls LP.
| ER98-4652-005 | Boralex Stratton Energy LP.
| ER02-1175-004 | Boralex Ft. Fairfield LP.
| ER01-2568-004 | Boralex Ashland LP.
E-5 | EL07-41-001, ER07-583-003 | Commonwealth Edison Company and Commonwealth Edison Company of Indiana, Inc.
E-6 | OMITTED
E-7 | QM8-2-000 | PECO Energy Company.
E-8 | ER04-157-021 | Bangor Hydro-Electric Company.
| ER04-714-011 | Florida Power and Light Company.
| EL05-89-001 | Maine Public Utilities Commission v. Central Maine Power Company.
E-9 | OMITTED
E-10 | ER07-576-003 | Baltimore Gas and Electric Company.
E-11 | ER00-2268-019, ER00-2268-023, EL05-10-000 | Pinnacle West Capital Corporation.
| ER99-4124-016, ER99-4124-020, EL05-11-000 | Arizona Public Service Company.
| EL05-12-000 | Pinnacle West Energy Corporation.
| ER99-4122-018, ER99-4122-024, EL05-13-000 | APS Energy Services Company, Inc.
| ER07-428-001, ER07-428-002, EL07-82-000 | Pinnacle West Marketing and Trading Co., LLC.
E-12 | EL08-10-000 | Wisconsin Electric Power Company.
E-13 | OMITTED
E-14 | EL07-70-001 | Hudson Transmission Partners, LLC vs. New York Independent System Operator, Inc.
E-15 | EL07-42-001 | Constellation Energy Commodities Group, Inc.
MISCELLANEOUS
M-1 | RM08-5-000 | Revisions to Forms, Statements and Reporting Requirements for Electric Utilities and Licensees.
HYDRO
H-1 | P-2524-012 | Grand River Dam Authority.
H-2 | P-2149-137 | Public Utility District No. 1 of Douglas County, Washington.
H-3 | P-12911-003 | The Electric Plant Board of the City of Paducah, Kentucky.
H-4 | P-7267-045 | Joseph M. Keating.
CERTIFICATES
C-1 | RM06-7-003 | Revisions to the Blanket Certificate Regulations and Clarification Regarding Rates.

Kimberly D. Bose,
Secretary.

A free webcast of this event is available through www.ferc.gov. Anyone with Internet access who desires to view this event can do so by navigating to www.ferc.gov's Calendar of Events and locating this event in the Calendar. The event will contain a link to its webcast. The Capitol Connection provides technical support for the free webcasts. It also offers access to this event via television in the DC area and via phone bridge for a fee. If you have any questions, visit www.CapitolConnection.org or contact Danelle Springer or David Reininger at 703-993-3100.

Immediately following the conclusion of the Commission Meeting, a press briefing will be held in the Commission Meeting Room. Members of the public may view this briefing in the designated overflow room. This statement is intended to notify the public that the press briefings that follow Commission meetings may now be viewed remotely at Commission headquarters, but will not be telecast through the Capitol Connection service.

[FR Doc. E8-625 Filed 1-14-08; 8:45 am]

BILLING CODE 6717-01-P